NUCLEAR REGULATORY COMMISSION

Request for a License to Import Radioactive Waste

Pursuant to 10 CFR 110.70 (c) “Public Notice of Receipt of an Application,” please take notice that the Nuclear Regulatory Commission (NRC) has received the following request for an import license. Copies of the request are available electronically through ADAMS and can be accessed through the Public Electronic Reading Room (PERR) link http://www.nrc.gov/reading-rm.html at the NRC Homepage.

A request for a hearing or petition for leave to intervene may be filed within thirty days after publication of this notice in the Federal Register. Any request for hearing or petition for leave to intervene shall be served by the requestor or petitioner upon the applicant, the office of the General Counsel, U.S. Nuclear Regulatory Commission, Washington, DC 20555; the Secretary, U.S. Nuclear Regulatory Commission, Washington, DC 20555; and the Executive Secretary, U.S. Department of State, Washington, DC 20520.

A request for a hearing or petition for leave to intervene may be filed with the NRC electronically in accordance with NRC's E-Filing rule promulgated in August 2007, 72 FR 49139 (Aug. 28, 2007). Information about filing electronically is available on timely electronic filing, at least five days prior to the filing deadline, the petitioner/requestor should contact the Office of the Secretary by e-mail at HEARINGDOCKET@NRC.GOV, or by calling (301) 415-1677, to request a digital ID certificate and allow for the creation of an electronic docket.

In addition to a request for hearing or petition for leave to intervene, written comments, in accordance with 10 CFR 110.81, should be submitted within thirty days after publication of this notice in the Federal Register to Office of the Secretary, U.S. Nuclear Regulatory Commission, Washington, DC 20555, Attention: Rulemaking and Adjudications.

The information concerning this license application follows.

NRC Import License Application
[Description of material]
Name of applicant, date of application, date received, application No., docket No. | Material type | Total quantity | End use | Country of origin
EnergySolutions, September 14, 2007 (ML072950080), September 17, 2007 IW023, 11005711. Additional Information: December 5, 2007 (ML073400154), January 11, 2008 (ML080150374) | Up to approximately 20,000 tons of radioactively contaminated material from nuclear facility operations; consisting of contaminated metals, graphite, dry activity material (e.g., wood, paper, and plastic), liquids (e.g., aqueous and organic-based fluids), and ion exchange resins (treated and untreated) | Total volume estimated to be approximately 1,000,000 cubic feet. Quantities, types and combinations of radioactive contaminants will vary depending on material, but at no time will they exceed importer's possession limits. The cumulative total quantity for each type of contaminant over the duration of the import license will not exceed 5 kilograms (kg) special nuclear material; 1.0 x 10⁶ kg natural/depleted uranium; 20 TBq transuranics (except Pu); and 600 TBq of all other radionuclides | Contaminated materials are to be inspected, sorted and processed at applicant's facilities in and licensed by the State of Tennessee for recycle and beneficial reuse and/or disposal of as radioactive waste (pending conformity with waste acceptance criteria) at a Clive, Utah disposal facility licensed by the State of Utah. Materials that meet domestic license conditions for unrestricted release may be released. Nonconforming materials would be returned to the generator (see associated export license application XW013) | Italy.

Dated this 5th day of February 2008 at Rockville, Maryland.
For the Nuclear Regulatory Commission.
Scott W. Moore,
Deputy Director, Office of International Programs.

[FR Doc. E8-2484 Filed 2-8-08; 8:45 am]

BILLING CODE 7590-01-P